DEPARTMENT OF COMMERCE

International Trade Administration

[A-570-827]

Continuation of Antidumping Duty Order: Cased Pencils From the People's Republic of China

AGENCY: Import Administration, International Trade Administration, Department of Commerce.

ACTION: Notice of Continuation of Antidumping Duty Order: Cased Pencils from the People's Republic of China (“PRC”).

SUMMARY: On July 5, 2000, the Department of Commerce (“the Department”), pursuant to sections 751(c) and 752 of the Tariff Act of 1930, as amended (“the Act”), determined that revocation of the antidumping duty order on cased pencils from the PRC, is likely to lead to continuation or recurrence of dumping. See Certain Cased Pencils from the People's Republic of China; Final Results of Expedited Sunset Review of Antidumping Order, 65 FR 41431 (July 5, 2000). On July 28, 2000, the International Trade Commission (“the Commission”), pursuant to section 751(c) of the Act, determined that revocation of the antidumping duty order on cased pencils from the PRC would be likely to lead to continuation or recurrence of material injury to an industry in the United States within a reasonably foreseeable time. See Cased Pencils from China, 65 FR 45998 (July 26, 2000). Therefore, pursuant to 19 CFR 351.218(f)(4), the Department is publishing notice of the continuation of the antidumping duty order on cased pencils from the PRC.

EFFECTIVE DATE: August 10, 2000.

FOR FURTHER INFORMATION CONTACT: Kathryn B. McCormick or James P. Maeder, Office of Policy for Import Administration, International Trade Administration, U.S. Department of Commerce, 14th Street and Constitution Ave., NW, Washington, D.C. 20230; telephone: (202) 482-1930 or (202) 482-3330, respectively.

SUPPLEMENTARY INFORMATION:

Background:

On December 1, 1999, the Department initiated, and the Commission instituted, sunset reviews (64 FR 67247 and 64 FR 67304, respectively) of the antidumping duty order on cased pencils from the PRC, pursuant to section 751(c) of the Act. As a result of its review, the Department found on July 5, 2000 that revocation of the antidumping duty order on cased pencils from the PRC would likely lead to continuation or recurrence of dumping and notified the Commission of the magnitude of the margins likely to prevail were the order revoked. See Certain Cased Pencils from the People's Republic of China; Final Results of Expedited Sunset Review of Antidumping Order, 65 FR 41431 (July 5, 2000).

On July 5, 2000, the Commission determined, pursuant to section 751(c) of the Act, that revocation of the antidumping duty order on cased pencils from the PRC would be likely to lead to continuation or recurrence of material injury to an industry in the United States within a reasonably foreseeable time. See Cased Pencils from China, 65 FR 45998 (July 26, 2000) and USITC Publication 3328 (July 2000), Investigation No. 731-TA-669 (Review).

Scope:

The products covered by this order are certain cased pencils of any shape or dimension which are writing and/or drawing instruments that feature cores of graphite or other materials, encased in wood and/or man-made materials, whether or not decorated and whether or not tipped (e.g., with erasers, etc.) in any fashion, and either sharpened or unsharpened. The pencils subject to this order are classified under subheading 9609.10.00 of the Harmonized Tariff Schedules of the United States (“HTSUS”).

Specifically excluded from the scope of this order are mechanical pencils, cosmetic pencils, pens, non-cased crayons (wax), pastels, charcoals, and chalks. ¹ Although the HTSUS subheadings are provided for convenience and customs purposes, the written description is dispositive.

¹ See Notice of Scope Rulings, 62 FR 62288 (November 21, 1997) (the Department determined that a plastic, quasi-mechanical pencil known as the Bensia pencil is outside the scope of the order); and Notice of Scope Rulings, 63 FR 29700 (June 1, 1998) (Naturally Pretty, a young girl's 10 piece dress-up vanity set, including two 3-inch pencils, is outside the scope of the order).

Determination:

As a result of the determinations by the Department and the Commission that revocation of the antidumping duty order would be likely to lead to continuation or recurrence of dumping and material injury to an industry in the United States, pursuant to section 751(d)(2) of the Act, the Department hereby orders the continuation of the antidumping duty order on cased pencils from the PRC. The Department will instruct the U.S. Customs Service to continue to collect antidumping duty deposits at the rates in effect at the time of entry for all imports of subject merchandise. The effective date of continuation of this order will be the date of publication in the Federal Register of this Notice of Continuation. Pursuant to section 751(c)(2) and 751(c)(6) of the Act, the Department intends to initiate the next five-year review of this order not later than July 2005.

Dated: August 4, 2000.
Troy H. Cribb,
Acting Assistant Secretary for Import Administration.

[FR Doc. 00-20329 Filed 8-9-00; 8:45 am]

BILLING CODE 3510-DS-P